DEPARTMENT OF COMMERCE

National Oceanic and Atmospheric Administration

RIN 0648-XF690

Fisheries Off West Coast States; Fisheries of the Exclusive Economic Zone Off Alaska; Seabird Cable Strike Mitigation Workshop; Public Meeting

AGENCY: National Marine Fisheries Service (NMFS), National Oceanic and Atmospheric Administration (NOAA), Commerce.

ACTION: Notice of public meeting.

SUMMARY: Emerging seabird mitigation technologies will be discussed at the Seabird Cable Strike Mitigation Workshop.

DATES: The meeting will be held November 7, 2017, from 8:30 a.m. to 4:30 p.m., and November 8, 2017, from 8:30 a.m. to 12:30 p.m., Pacific Standard Time.

ADDRESSES: The meeting will be held at the NOAA Western Regional Center, Building 9 (Kelly C. Sandy III Auditorium), 7600 Sand Point Way NE., Seattle, WA 98115. For information on building access, see SUPPLEMENTARY INFORMATION.

FOR FURTHER INFORMATION CONTACT: Anne Marie Eich, 907-586-7172, or Vanessa Tuttle, 206-860-3479.

SUPPLEMENTARY INFORMATION: Seabirds congregate around trawlers to feed on offal putting them at risk of colliding with cables (trawl warps and data cables) that run aft of trawlers. Cable strikes are a known source of seabird mortality, particularly on at-sea factory trawlers (referred to as catcher/processors). Research projects observing seabird cable strikes have been conducted in the Alaska catcher/processor fleet targeting pollock in the Bering Sea and in the West Coast at-sea hake fishery. Data from both studies indicate that estimated mortalities for cable strikes are greater than observed mortalities collected as part of typical observer duties. To address this issue, NMFS will host a 1.5-day workshop on gear modification strategies for reducing seabird cable strike mortality in West Coast trawl (hake) fisheries. The goal is to develop mitigation strategies that reduce cable strikes and could be used by both West Coast hake and Alaska pollock trawlers. This collaborative workshop will bring together the at-sea processing industry, engineers, biologists and fisheries managers to develop innovative, practical gear-modifications for reducing seabird cable strike mortality.

Special Accommodations

This workshop will be physically accessible to people with disabilities. Requests for sign language interpretation or other auxiliary aids should be directed to Vanessa Tuttle, 206-860-3479, at least 10 working days prior to the meeting date.

Building Access

All visitors to the NOAA Western Regional Center's facility should bring one of the following forms of identification:

• Enhanced Driver's License from the states of Washington, Minnesota, and New York

• U.S. Passport

• U.S. Passport Card

• U.S. Department of Defense CAC

• U.S. Federal agency HSPD-12 compliant ID cards

• U.S. Veterans ID

• U.S. Military Dependent's ID Card

• U.S. Trusted Traveler Card—Global Entry, SENTRI, or NEXUS

• U.S. Transportation Workers Identification Credential (TWIC)

• State issued Real ID Compliant Driver's Licenses and Identification Cards.

Visitors who are foreign nationals (defined as a person who is not a citizen or national of the United States) will require additional security clearance to access the NMFS Northwest Fisheries Science Center. Foreign national visitors should contact Vanessa Tuttle, 206-860-3479, at least 10 working days prior to the meeting date to initiate the security clearance process.

Dated: October 17, 2017.
Emily H. Menashes,
Acting Director, Office of Sustainable Fisheries, National Marine Fisheries Service.

[FR Doc. 2017-22822 Filed 10-19-17; 8:45 am]

BILLING CODE 3510-22-P